DEPARTMENT OF THE INTERIOR

Bureau of Land Management

[LLNM00400 18X L13100000.FI0000]

Notice of Proposed Reinstatement of Terminated Oil and Gas Leases; OKNM127909, OKNM127910, OKNM127911, OKNM127912, OKNM127913, OKNM127917, and OKNM127920, Oklahoma

AGENCY: Bureau of Land Management, Interior.

ACTION: Notice of reinstatement.

SUMMARY: In accordance with the Mineral Leasing Act of 1920, Red Fork (USA) Investments, Inc., timely filed a petition for reinstatement of competitive oil and gas leases OKNM 127909, OKNM 127910, OKNM 127911, OKNM 127912, OKNM 127913, and OKNM 127920, in Payne County, Oklahoma, and OKNM 127917, in Noble County, Oklahoma. The lessee paid the required rentals accruing from the date of termination. No new leases were issued that affect these lands. The Bureau of Land Management proposes to reinstate these leases.

FOR FURTHER INFORMATION CONTACT: Julieann Serrano, Supervisory Land Law Examiner, Branch of Adjudication, Bureau of Land Management New Mexico State Office, 301 Dinosaur Trail, Santa Fe, New Mexico 87508, (505) 954-2149, jserrano@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The lessee agrees to new lease terms for rentals and royalties of $10 per acre, or fraction thereof, per year, and 16⅔ percent, respectively. The lessee agrees to additional or amended stipulations. The lessee paid the $500 administration fee for the reinstatement of the lease and the $159 cost for publishing this Notice.

The lessee met the requirements for reinstatement of the lease per Sec. 31(d) and (e) of the Mineral Leasing Act of 1920. The BLM is proposing to reinstate the leases, effective the date of termination subject to the:

• Original terms and conditions of the lease;

• Additional and amended stipulations;

• Increased rental of $10 per acre;

• Increased royalty of 16⅔ percent; and

• $159 cost of publishing this Notice.

Authority: 43 CFR 3108.2-3.

Julieann Serrano,
Supervisory, Land Law Examiner.

[FR Doc. 2018-06285 Filed 3-28-18; 8:45 am]

BILLING CODE 4310-FB-P